DEPARTMENT OF AGRICULTURE

Forest Service

Big Bar Ranger District of the Trinity River Management Unit; Shasta-Trinity National Forest; California; Trinity 1-8 Mining Operation

AGENCY: Forest Service, USDA.

ACTION: Notice of intent to prepare an environmental impact statement.

SUMMARY: A Plan of Operation has been submitted by Master petroleum, Inc., for the purpose of mining for gold within the trinity 1-8 Placer Mining Claim. The proposal is to mine within Trinity County from four sites totaling about 22 acres in the vicinity of Big East Fork and Canyon Creeks.

DATES: Comments concerning the scope of the analysis must be received by May 20, 2004. The draft environmental impact statement is expected in February, 2005, and the final environmental impact statement is expected in May, 2005.

ADDRESSES: Send written comments to Mike Mitchell, Supervisory Natural Resource Officer, c/o USFS, PO Box 1190, Weaverville, CA 96093. For further information, mail correspondence to Mike Mitchell, Supervisory Natural Resource Officer, c/o USFS, PO Box 1190, Weaverville, CA 96093.

FOR FURTHER INFORMATION CONTACT: Larry McLean, USFS Minerals Officer, phone 530-623-1767.

SUPPLEMENTARY INFORMATION:

Purpose and Need for Action

The purpose of the project is to extract locatable minerals (valuable mineral deposits) while providing resource protection on National Forest System lands as authorized by the United States mining laws of May 10, 1872, as amended (30 U.S.C. 21-54), which confer a statuary right to enter upon the public lands to search for minerals.

Proposed Action

The proposed action is to approve the Plan of Operations submitted by Master petroleum, Inc. to open pit mine about 22 acres of National Forest Lands on the Trinity 1-8 Placer Mining Claims, CAMC #605515. This is a high bench placer mining operation. The plan is to remove vegetation, stockpile topsoil for reclamation, remove and process valuable placer deposits down to bedrock, replace processed waste in excavation, and reclaim the site. It is estimated that the operation will process approximately 1,138,478 tons of gold bearing placer gravels from about 22 acres over a 25-year period. The Project is located at the confluence of Canyon Creek and the Big East Fork of Canyon Creek off Canyon Creek Road. Legal description is; T.35N., R.10W., Section 30, Mount Diablo Meridian.

Responsible Official

Joyce Andersen, District Ranger, c/o USFS, PO Box 1190, Weaverville, CA 96093.

Nature of Decision To Be Made

The District Ranger will decide whether the proposed action will proceed as proposed or as modified by an alternative. Also, she will decide which recommended mitigation measures and monitoring requirements will be applied.

Scoping Process

The Forest Service will advertise the proposal in the Trinity Journal and Record Searchlight, newspapers of general distribution. The project will be listed in the Shasta-Trinity Forest Quarterly NEPA calendar. Adjacent landowners, known interested parties, and government agencies will be sent letters describing the project and identifying the project timeframe. Scoping comments are requested by May 20, 2004. A public meeting is scheduled for May 13, 2004, in the Weaverville Fire Hall.

Preliminary Issues

Issues will be identified as a result of scoping. At this time project planners expect removal of vegetative cover, visual quality, and water quality concerns to be voiced in the scoping process.

Comment Requested

This notice of intent initiates the scoping process which guides the development of the environmental impact statement. The Forest Service is seeking information that planners may not be aware of, and/or issues (points of dispute, debate concern, or disagreement) regarding potential effects of the proposal to authorize mining on the Trinity 1-8 Placer Mining Claims.

Early Notice of Importance of Public Participation in Subsequent Environmental Review

A draft environmental impact statement will be prepared for comment. The comment period on the draft environmental impact statement will be 45 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45 day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

(Authority: 40 CFR 1501.7 and 1508.22; Forest Service Handbook 1909.15, Section 21.)

Dated: April 23, 2004.
Joyce Andersen,
District Ranger.

[FR Doc. 04-10017 Filed 5-3-04; 8:45 am]

BILLING CODE 3410-11-M